FEDERAL COMMUNICATIONS COMMISSION

[WC Docket No. 12-375; DA 14-1848]

Rates for Interstate Inmate Calling Services

AGENCY: Federal Communications Commission.

ACTION: Notice.

SUMMARY: In this document, the Commission granted in part the Prison Policy Initiative's (PPI) request that parties be given additional time to comply with the Commission's request for comments. Citing questions raised in the Commission's Second Further Notice of Proposed Rulemaking, PPI argued that the extension, if granted, would allow parties added time to provide more thorough, meaningful responses. The extension moves the deadline for comments and reply comments.

DATES: The deadline for filing comments is due on or before January 12, 2015. The deadline for reply comments is due on or before January 27, 2015.

ADDRESSES: You may submit comments, identified by WC Docket No. 12-375, by any of the following methods:

• Federal Communications Commission's Web site: http://fjallfoss.fcc.gov/ecfs2/. Follow the instructions for submitting comments.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Lynne Engledow, Pricing Policy Division, Wireline Competition Bureau, 202-418-1540 or Lynne.Engledow@fcc.gov.

SUPPLEMENTARY INFORMATION: This is a summary of the Commission's Order, WC Docket 12-375, DA 14-1848, released December 17, 2014. The full text of this document may be downloaded at the following Internet address: http://www.fcc.gov/document/comment-deadlines-extended-inmate-calling-second-fnprm. The complete text may be purchased from Best Copy and Printing, Inc., 445 12th Street SW., Room CY-B402, Washington, DC 20554. To request alternative formats for persons with disabilities (e.g., accessible format documents, sign language, interpreters, CARTS, etc.), send an email to fcc504@fcc.gov or call the Commission's Consumer and Governmental Affairs Bureau at (202) 418-0530 or (202) 418-0432 (TTY). This document does not contain information collections subject to the Paperwork Act of 1995 (PRA), Public Law 104-13. In addition, therefore, it does not contain any new or modified information collection burden[s] for small business concerns with fewer than 25 employees, pursuant to the Small Business Paperwork Relief Act of 2002, Public Law 107-198, see 44 U.S.C. 3506(c)(4).

Summary

1. On October 22, 2014, the Commission released a Second Notice of Proposed Rulemaking (Inmate Calling Second FNPRM), seeking comment on a number of issues. On December 10, 2014, the Prison Policy Initiative (PPI) filed a letter requesting additional time for parties to respond to questions raised in the Commission's Inmate Calling Second FNPRM. PPI contends the additional time will improve the quality of responses the Commission receives from the public and industry participants, and further facilitate the Commission's consideration of key issues at the center of this proceeding.

2. PPI states that it has spoken with several interested parties that consent to this request. However, in its opposition to the PPI Request, Securus Technologies, Inc. (Securus) argued that respondents have already had a sufficient amount of time to prepare their responses, and “the issues under consideration in this proceeding must be resolved expeditiously in order to provide finality to what is now a volatile market.”

3. Upon review the Commission agrees in part with the modest extension requested by PPI, as it allows for more fulsome comments that will facilitate the compilation of a complete record in this proceeding, without undue delay to its consideration of these issues.

Federal Communications Commission.
Lynne Engledow,
Deputy Chief, Pricing Policy Division.

[FR Doc. 2015-00100 Filed 1-8-15; 8:45 am]

BILLING CODE 6712-01-P